DEPARTMENT OF THE INTERIOR

Fish and Wildlife Service

Notice of Intent To Prepare Comprehensive Conservation Plans for Pelican Island National Wildlife Refuge, Indian River County, Florida, and Archie Carr National Wildlife Refuge, Brevard and Indian River Counties, Florida, and Notice of Meeting To Seek Public Participation

SUMMARY: This notice advises the public that the U.S. Fish and Wildlife Service intends to gather information necessary to prepare comprehensive conservation plans and associated environmental documents pursuant to the National Environmental Policy Act and implementing regulations to achieve the following:

(1) Advise other agencies and the public of our intentions, and

(2) Obtain suggestions and information on the scope of issues to include in the environmental documents.

DATES: The Service will hold its first public scoping meeting on Wednesday, May 3, 2000, from 7 p.m. to 9 p.m. at the Parrish Center, 3780 Highway AIA, Melbourne, Florida. Special mailings, newspaper articles and announcements will inform people in the general refuge areas of the times and places of other meetings planned to seek public involvement. The Service plans to hold at least five public meetings during May and June 2000.

ADDRESSES: Address comments and requests for more information to: Natural Resource Planner, Merritt Island National Wildlife Refuge Complex, P.O. Box 6504, Titusville, Florida 32782-6504, (321) 861-0667.

If you wish to comment, you may submit Your comments by any one of several methods. You may mail comments to the above address. You may also comment via the Internet to the following address: Cheri_Ehrhardt@fws.gov. Please submit Internet comments as an ASCII file avoiding the use of special characters and any form of encryption. Please also include your name and return address in your Internet message. If you do not receive a confirmation from the system that we have received your Internet message, contact us directly at Merritt Island National Wildlife Refuge Complex at the above address. Finally, you may hand-deliver comments to the Refuge Complex at the above address. Our practice is to make comments, including names and home addresses of respondents, available for public review during regular business hours.

Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to manage all lands within the National Wildlife Refuge System in accordance with an approved comprehensive conservation plan. These plans outline a vision for each refuge; guide management decisions; and outline goals, objectives and strategies to achieve the visions and purposes of each refuge unit. The plans will provide other agencies and the public with an understanding of the management strategies to be implemented.

The Service has initiated planning for Pelican Island National Wildlife Refuge for the conservation and enhancement of its natural resources. Encompassing approximately 5,000 acres and including designations as a National Historic Landmark, a National Wilderness Area, and a Wetland of International Importance, this refuge is located between the Indian River and the Atlantic Ocean in southeastern Florida, near the city of Sebastian.

Planning for Archie Carr National Wildlife Refuge has been initiated for the conservation and enhancement of its natural resources as well. This refuge is located along the Atlantic Ocean in southeastern Florida, between the cities of Melbourne Beach and Vero Beach. While the Service owns or leases approximately 165 acres, the State of Florida, Brevard County, and Indian River County account for the remainder of the publicly owned lands within the refuge. The refuge beaches support loggerhead and green turtle nesting. The Florida scrub jay, eastern indigo snake, southeastern beach mouse, and other threatened and endangered species also occur within the refuge.

The Service is especially interested in receiving public input during this planning process. Examples of questions to be answered are as follows:

What do you value most about these refuges?

What problems or issues do you see affecting management or public use of these refuges?

What improvements do you recommend for these refuges?

What changes, if any, would you like to see in the management of these refuges?

The Service has provided these questions for optional use and has no requirement that information be provided.

Review of these projects will be conducted in accordance with the requirements of the National Environmental Policy Act of 1969, as amended (42 U.S.C. 4321 et seq.), National Environmental Policy Act Regulations (40 C.F.R. 1500-1508), other appropriate Federal laws and regulations, including the National Wildlife Refuge System Improvement Act of 1997, Executive Order 12996, and Service policies and procedures for compliance with those regulations.

Dated: April 18, 2000.
Cynthia K. Dohner,
Acting Regional Director.

[FR Doc. 00-10085 Filed 4-21-00; 8:45 am]

BILLING CODE 4310-55-M